ENVIRONMENTAL PROTECTION AGENCY

[FRL-9946-54-ORD]

Stormwater Management in Response to Climate Change Impacts: Lessons From the Chesapeake Bay and Great Lakes Regions

AGENCY: Environmental Protection Agency (EPA).

ACTION: Notice of availability.

SUMMARY: The Environmental Protection Agency is announcing the availability of the document titled, “Stormwater Management in Response to Climate Change Impacts: Lessons from the Chesapeake Bay and Great Lakes Regions” (EPA/600/R-15/087). The document was prepared by the National Center for Environmental Assessment (NCEA) within EPA's Office of Research and Development. This document describes insights gained from a series of EPA and National Oceanic and Atmospheric Administration (NOAA) sponsored workshops with communities in the Chesapeake Bay and Great Lakes regions to address climate change in stormwater adaptation efforts.

The final document is available via the Internet on EPA's Risk Web page under Recent Announcements at http://www.epa.gov/risk.

DATES: The document will be available on or around May 19, 2016.

ADDRESSES: The final document, “Stormwater Management in Response to Climate Change Impacts: Lessons from the Chesapeake Bay and Great Lakes Regions,” is available primarily via the Internet on the EPA's Risk Web page under Recent Announcements at http://www.epa.gov/risk. A limited number of paper copies are available from the Information Management Team, NCEA; telephone: 703-347-8561; facsimile: 703-347-8691. If you are requesting a paper copy, please provide your name, mailing address, and the document title.

FOR FURTHER INFORMATION CONTACT: For technical information, contact Susan Julius, NCEA; telephone: 703-347-8619; facsimile: 703-347-8694; or email: julius.susan@epa.gov.

SUPPLEMENTARY INFORMATION:

I. Information About the Project/Document

Water resources in the United States are affected by a number of climate stressors, including increasing temperatures, changing precipitation patterns, and extreme events. These changing conditions have implications for stormwater management as local decision makers look to improve existing infrastructure and build new stormwater systems. EPA and NOAA have conducted a number of workshops and other community efforts in cities and counties within the Chesapeake Bay and Great Lakes regions to initiate conversations about how projected land use and climate change could impact local water conditions and how adaptation (resiliency) planning can fit into decision-making processes to help meet existing goals. These conversations provided insights into the kinds of information that enable and facilitate communities' incorporation of climate change into local planning and decision making for stormwater management. The report reviews lessons learned from these adaptation planning experiences, including locally identified barriers to addressing climate change, methods to overcome barriers in the short term, and long term information needs to further assist communities in their stormwater adaptation efforts.

Dated: May 9, 2016.
Mary A. Ross,
Deputy Director, National Center for Environmental Assessment.

[FR Doc. 2016-11745 Filed 5-18-16; 8:45 am]

BILLING CODE 6560-50-P